DEPARTMENT OF COMMERCE

International Trade Administration

(A-507-502)

Certain In-Shell Raw Pistachios from Iran: Notice of Rescission of Antidumping Duty Administrative Review

AGENCY: Import Administration, International Trade Administration, Department of Commerce.

SUMMARY: The U.S. Department of Commerce (the Department) is rescinding its administrative review of the antidumping duty order on certain in-shell raw pistachios from Iran for the period July 1, 2005, through June 30, 2006.

EFFECTIVE DATE: December 20, 2006.

FOR MORE INFORMATION CONTACT: Angelica Mendoza or John Drury, AD/CVD Operations, Office 7, Import Administration, International Trade Administration, U.S. Department of Commerce, 14th Street and Constitution Avenue NW., Washington, DC 20230; telephone: (202) 482-3019 and (202) 482-0195, respectively.

SUPPLEMENTARY INFORMATION:

Background

On July 3, 2006, the Department published in the Federal Register its notice of opportunity to request an administrative review of the antidumping duty order on certain in-shell raw pistachios (pistachios) from Iran. See Antidumping or Countervailing Duty Order, Finding, or Suspended Investigation; Opportunity to Request Administrative Review, 71 FR 37890 (July 3, 2006). In response, on July 31, 2006, Cal Pure Pistachios, Inc. (Cal Pure), a domestic interested party, requested an administrative review of the antidumping duty order on pistachios from Iran for the period of review (POR) of July 1, 2005, through June 30, 2006, with respect to entries of merchandise exported or shipped by Tehran Negah Nima Trading Company (Nima). Respondent Nima did not request an administrative review. On August 25, 2006, the Department initiated an administrative review of Nima. See Initiation of Antidumping and Countervailing Duty Administrative Reviews and Requests for Revocation in Part, 71 FR 51573 (August 30, 2006). On September 18, 2006, the Department issued its antidumping duty questionnaire to Nima. On October 4, 2006, Nima's representative informed the Department that it would not be filing responses to the Department's questionnaire as it did not export or ship subject merchandise during the POR. See Memorandum to the File from Angelica L. Mendoza, Tehran Negah Nima Trading Company - No Shipments of Certain In-Shell Raw Pistachios from Iran, dated October 5, 2006.

On October 20, 2006, the Department issued a “No Shipment Inquiry” to U.S. Customs and Border Protection (CBP) to confirm that there were no shipments or entries of pistachios from Iran exported by Nima during the POR of the instant administrative review. On November 7, 2006, the Department confirmed, based on its internal review of CBP data and the results of its CBP inquiry, there were no entries of merchandise exported or shipped by Nima during the POR. See Memorandum to the File from Angelica L. Mendoza, through Richard O. Weible, Office Director, Tehran Negah Nima Trading Company (Nima) - No Shipments of Certain In-Shell Raw Pistachios from Iran Per CBP Inquiry, dated November 7, 2006. On November 8, 2006, Cal Pure submitted a letter withdrawing its request for an administrative review of shipments or entries of pistachios from Iran exported by Nima. See Letter from Cal Pure dated November 8, 2006.

Rescission of Antidumping Duty Administrative Review

19 C.F.R. 351.213(d)(1) provides that the Department will rescind an administrative review if the party that requested the review withdraws its request for review within 90 days of the date of publication of the notice of initiation of the requested review, or withdraws at a later date if the Department determines it is reasonable to extend the time limit for withdrawing the request. In response to Cal Pure's timely withdrawal of its request for an administrative review as well as the fact that Nima had no shipments during the POR pursuant to 19 C.F.R. ¶351.213(d)(3), the Department hereby rescinds the administrative review of the antidumping duty order on pistachios from Iran for the period July 1, 2005, through June 30, 2006.

The Department intends to issue appropriate assessment instructions directly to CBP 15 days after the date of the publication of this notice. The Department will direct CBP to assess antidumping duties for Nima at the cash deposit rate in effect on the date of entry for entries during the period July 1, 2005, through June 30, 2006.

Notification to Importers

This notice serves as a final reminder to importers of their responsibility under 19 C.F.R. ¶351.402(f) to file a certificate regarding the reimbursement of antidumping duties prior to liquidation of the relevant entries during this review period. Failure to comply with this requirement could result in the Secretary's assumption that reimbursement of antidumping duties occurred and the subsequent assessment of double antidumping duties.

This notice also serves as a reminder to parties subject to administrative protective order (APO) of their responsibility concerning the disposition of proprietary information disclosed under APO in accordance with 19 C.F.R. ¶351.305(a)(3). Timely written notification of the return/destruction of APO materials or conversion to judicial protective order is hereby requested. Failure to comply with the regulations and the terms of an APO is a sanctionable violation.

This notice is published in accordance with section 777(i)(1) of the Tariff Act of 1930, as amended, and 19 C.F.R. ¶351.213(d)(4).

Dated: December 14, 2006.
Stephen J. Claeys,
Deputy Assistant Secretary for Import Administration.

[FR Doc. E6-21764 Filed 12-19-06; 8:45 am]

Billing Code: 3510-DS-S